DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before October 27, 2014. Address written comments to Statutory Import Programs Staff, Room 3720, U.S. Department of Commerce, Washington, DC 20230. Applications may be examined between 8:30 a.m. and 5:00 p.m. at the U.S. Department of Commerce in Room 3720.

Docket Number: 14-021. Applicant: Utah State University, 2400 Old Main Hill, Logan, Utah 84322-2400. Instrument: Respirometer for measuring the oxygen consumption of aquatic animals. Manufacturer: Loligo Systems, Denmark. Intended Use: The instrument will be used to better understand how the ability of aquatic organisms to obtain oxygen under different environmental conditions affects their growth, survivorship, distribution, and abundance. The phenomenon being studied is the rate of oxygen consumption by aquatic invertebrates, using the instrument under different temperatures and pollution concentrations. Continuous measurement of metabolic (oxygen consumption) response to stress by small aquatic organisms (<10mm in length) requires a flow-through system with oxygen probes and equipment that can both be programmed to precisely increase the temperature of a water bath and automatically detect ug level changes in oxygen concentrations, without which the research could not be conducted. Justification for Duty-Free Entry: There are no instruments of the same general category manufactured in the United States. Application accepted by Commissioner of Customs: August 5, 2014.

Docket Number: 14-023. Applicant: Louisiana State University, 202 Nicholson Hall, LSU, Baton Rouge, LA 70803. Instrument: Scanning Probe Microscope (SPM)—scanning tunneling microscopy. Manufacturer: SPECS Surface Nano Analysis, Germany. Intended Use: The instrument will be used to elucidate catalytic properties of metal and metal-oxide systems, uncovering new schemes by which organic molecules become environmentally hazardous upon chemisorption. Scanning tunneling microscopy (STM) will be used to probe the nanoscale atomic structure, growth, and atomic/molecular dynamics of a variety of systems, including metal nanoclusters on oxides and grasphene, metal oxide surfaces and metal surfaces. All experiments will be conducted in ultra-high vacuum conditions, including in addition the STM, other surface sciences probes such as electron-energy loss spectroscopy, x-ray and UV photoemission spectroscopy. The electronics and STM head must provide 60 frames per second scan rate with pixel density of 128 x 128, the STM head must be mounted on an 8 inch flange with a vertical face, the instrument must have the ability to sputter clean the tip without removing it from the STM scan head, the tunneling bias voltage must be applied to the sample, and the preamp must collect current from the tip. Justification for Duty-Free Entry: There are no instruments of the same general category manufactured in the United States. Application accepted by Commissioner of Customs: August 26, 2014.

Dated: September 29, 2014.
Gregory W. Campbell,
Director of Subsidies Enforcement, Enforcement and Compliance.

[FR Doc. 2014-23794 Filed 10-3-14; 8:45 am]

BILLING CODE 3510-DS-P